DEPARTMENT OF ENERGY

Federal Energy Regulatory Commission

Combined Notice of Filings #1

Take notice that the Commission received the following electric rate filings:

Docket Numbers: ER16-372-008.

Applicants: PJM Interconnection, L.L.C.

Description: Compliance filing: Compliance Filing Pursuant to Commission's August 30, 2019 Order on Rehearing to be effective 8/30/2019.

Filed Date: 9/16/19.

Accession Number: 20190916-5075.

Comments Due: 5 p.m. ET 10/7/19.

Docket Numbers: ER18-2270-001.

Applicants: Paulding Wind Farm III LLC.

Description: Report Filing: Refund Report Filing to be effective N/A.

Filed Date: 9/16/19.

Accession Number: 20190916-5012.

Comments Due: 5 p.m. ET 10/7/19.

Docket Numbers: ER18-2317-001.

Applicants: Meadow Lake Wind Farm V LLC.

Description: Report Filing: Refund Report Filing to be effective N/A.

Filed Date: 9/16/19.

Accession Number: 20190916-5013.

Comments Due: 5 p.m. ET 10/7/19.

Docket Numbers: ER18-2370-000.

Applicants: Lackawanna Energy Center LLC.

Description: Report Filing: Refund Report in Docket Nos. ER18-2370 and EL19-7 to be effective N/A.

Filed Date: 9/16/19.

Accession Number: 20190916-5086.

Comments Due: 5 p.m. ET 10/7/19.

Docket Numbers: ER19-266-000.

Applicants: Invenergy Nelson LLC.

Description: Report Filing: Refund Report to be effective N/A.

Filed Date: 9/16/19.

Accession Number: 20190916-5089.

Comments Due: 5 p.m. ET 10/7/19.

Docket Numbers: ER19-2813-000.

Applicants: Southwest Power Pool, Inc.

Description: § 205(d) Rate Filing: 3597 Chilocco Wind Farm GIA to be effective 9/6/2019.

Filed Date: 9/16/19.

Accession Number: 20190916-5009.

Comments Due: 5 p.m. ET 10/7/19.

Docket Numbers: ER19-2814-000.

Applicants: PJM Interconnection, L.L.C.

Description: § 205(d) Rate Filing: Original Cost Responsibility Agreement, Service Agreement No. 5483, NQ165 to be effective 8/16/2019.

Filed Date: 9/16/19.

Accession Number: 20190916-5057.

Comments Due: 5 p.m. ET 10/7/19.

Docket Numbers: ER19-2815-000.

Applicants: ISO New England Inc.

Description: § 205(d) Rate Filing: Ministerial Filing to Conform ISO-NE Financial Assurance Policy to be effective 9/17/2019.

Filed Date: 9/16/19.

Accession Number: 20190916-5078.

Comments Due: 5 p.m. ET 10/7/19.

Docket Numbers: ER19-2816-000.

Applicants: Midcontinent Independent System Operator, Inc.

Description: § 205(d) Rate Filing: 2019-09-16_SA 3348 ITC-Isabella-Isabella II-Consumers MPFCA (J717 J728 J752) to be effective 8/30/2019.

Filed Date: 9/16/19.

Accession Number: 20190916-5087.

Comments Due: 5 p.m. ET 10/7/19.

Take notice that the Commission received the following qualifying facility filings:

Docket Numbers: QF19-1315-000; QF19-1299-000; QF19-1302-000; QF19-1300-000; QF19-1311-000; QF19-1314-000; QF19-1301-000.

Applicants: Bluestone Solar, LLC, Chisago Holdco LLC, CMR Solar, LLC, Frontenac Holdco LLC, Montevideo Solar LLC, Sartell Solar LLC, Underhill Solar, LLC.

Description: Refund Report of Bluestone Solar, LLC, et al.

Filed Date: 9/13/19.

Accession Number: 20190913-5172.

Comments Due: 5 p.m. ET 10/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2019.
Nathaniel J. Davis, Sr.,
Deputy Secretary.

[FR Doc. 2019-20386 Filed 9-19-19; 8:45 am]

BILLING CODE 6717-01-P